DEPARTMENT OF ENERGY

Federal Energy Regulatory Commission

Notice of Commission Staff Attendance

The Federal Energy Regulatory Commission hereby gives notice that members of the Commission's staff may attend the following meetings related to the transmission planning activities of the New York Independent System Operator, Inc. (NYISO):

Electric System Planning Working Group

October 24, 2011, 10 a.m.-4:00 p.m., Local Time

November 7, 2011, 10 a.m.-4 p.m., Local Time

November 21, 2011, 10 a.m.-4 p.m., Local Time

Inter-Regional Planning Advisory Committee

November 29, 2011, 8:30 a.m.-12:30 p.m., Local Time

The above-referenced meetings will be held at: NYISO's offices, Rensselaer, NY.

The above-referenced meetings are open to stakeholders.

Further information may be found at http://www.nyiso.com.

The discussions at the meeting described above may address matters at issue in the following proceedings:

Docket No. RM10-23, Transmission Planning and Cost Allocation by Transmission Owning and Operating Public Utilities

Docket No. ER08-1281, New York Independent System Operator, Inc.

For more information, contact James Eason, Office of Energy Market Regulation, Federal Energy Regulatory Commission at (202) 502-8622 or James.Eason@ferc.gov.

Dated: October 19, 2011.
Kimberly D. Bose,
Secretary.

[FR Doc. 2011-27527 Filed 10-24-11; 8:45 am]

BILLING CODE 6717-01-P